DEPARTMENT OF COMMERCE

Office of the Secretary

[Docket Number: 030520131-3131-01]

Privacy Act of 1974; Altered System of Records

AGENCY: Office of the Secretary, Department of Commerce.

ACTION: Notice and request for comments

SUMMARY: In accordance with the requirements of the Privacy Act of 1974, as amended, 5 U.S.C. 552a, the Department of Commerce (Department) is issuing notice of our intent to amend the system of records entitled Commerce Department System 2, “Accounts Receivable,” to add to this system records compiled in conjunction with new pronouncements issued by federal authoritative agencies for debt collection. We invite public comment on the proposed changes in this publication.

DATES: Comment Date: To be considered, written comments must be submitted on or before July 17, 2003.

Effective Date: Unless comments are received, the amendments will become effective as proposed on the date of publication of a subsequent notice in the Federal Register.

ADDRESSES: Comments may be mailed to Deputy Chief Financial Officer, Office of Financial Management, U. S. Department of Commerce, Room 6827, 14th and Constitution Avenue, NW., Washington, DC 20230.

FOR FURTHER INFORMATION CONTACT: Lisa Casias at 202-482-1207.

SUPPLEMENTARY INFORMATION: Pursuant to the Privacy Act of 1974 (5 U.S.C. 552a) and the Office of Management and Budget (OMB) Circular No. A-130, OMB Circular A-129 (Revised) and the Departments of Treasury/Justice Federal Claims Collections Standards (Final Rule), the Department has completed a review of its Privacy Act systems of records notices for the purpose of debt collection. In addition, other minor administrative updates are being amended to the system location, categories of records, routine uses, storage, retrievability, notification procedure, and records access procedures.

Commerce/Dept-2

System Location:

Delete: a. through g.

Add:

(1) For Office of the Secretary (OS), which includes Gifts & Bequests Fund, Salaries & Expense Fund, and Working Capital Fund:

a. NIST, 100 Bureau Drive, Building 101, Room C29, Gaithersburg, MD 20899

b. Washington National Records Center, 4205 Suitland Road, Suitland, MD 20746-8001

(2) For Bureau of the Census (Census):

a. U.S. Census Bureau, 4700 Silverhill Road, Federal Building #3, Rooms 3280/3565, Washington, DC 20233

b. Washington National Records Center, 4205 Suitland Road, Suitland, MD 20746-8001

(3) For Bureau of Industry and Security (BIS) (formerly called the Bureau of Export Administration (BXA)):

a. NOAA, 20020 Century Boulevard, Stations 3333/3505, Germantown, MD 20874

b. Washington National Records Center, 4205 Suitland Road, Suitland, MD 20746-8001

(4) For Economic and Statistics Administration/Bureau of Economic Analysis (ESA/BEA):

a. NIST, 100 Bureau Drive, Building 101, Room C29, Gaithersburg, MD 20899

b. Washington National Records Center, 4205 Suitland Road, Suitland, MD 20746-8001

(5) For Economic Development Administration (EDA):

a. EDA, Accounting Division, Herbert C. Hoover Building, Room 7215, 14th & Constitution Avenue, NW., Washington, DC 20230

b. Washington National Records Center, 4205 Suitland Road, Suitland, MD 20746-8001

(6) For Emergency Loan Guarantee Program, Oil & Gas/Steel (ELGP):

a. NIST, 100 Bureau Drive, Building 101, Room C29, Gaithersburg, MD 20899

b. Washington National Records Center, 4205 Suitland Road, Suitland, MD 20746-8001

(7) For International Trade Administration (ITA):

a. National Business Center, P&S Mail Stop 2760, 7301 W. Mansfield Avenue, Lakewood, CO 80235-2230

b. National Archives, Bldg. 48, Denver Federal Center, P.O. Box 25307, Denver, CO, 80225

(8) For Minority Business Development Agency (MBDA):

a. NIST, 100 Bureau Drive, Building 101, Room C29, Gaithersburg, MD 20899

b. Washington National Records Center, 4205 Suitland Road, Suitland, MD 20746-8001

(9) For National Institute of Standards and Technology (NIST):

a. NIST, 100 Bureau Drive, Room A822, Gaithersburg, MD 20899

b. Washington National Records Center, 4205 Suitland Road, Suitland, MD 20746-8001

(10) For National Oceanic and Atmospheric Administration (NOAA):

a. NOAA, 20020 Century Boulevard, Stations 3333/3505, Germantown, MD 20874

b. Washington National Records Center, 4205 Suitland Road, Suitland, MD 20746-8001

(11) For National Telecommunications & Information Administration (NTIA):

a. NIST, 100 Bureau Drive, Building 101, Room C29, Gaithersburg, MD 20899

b. Washington National Records Center, 4205 Suitland Road, Suitland, MD 20746-8001

(12) For National Technical Information Service (NTIS):

a. NTIS, 5285 Port Royal Road, Room 1021, Springfield, VA 22161

(13) For U.S. Patent and Trademark Office (PTO):

a. U.S. Patent and Trademark Office, 2011 Crystal Drive, Suite 802, Arlington, VA 22202

b. U.S. Patent and Trademark Office Franconia Warehouse (Files Repository), 6808 Loisdale Road, Springfield, VA 22150-1910

Categories of individuals covered by the system:

Delete: current paragraph

Add: Individuals who owe debts to the Department or one of its offices or bureaus.

Categories of records in the system:

Delete: current paragraph

Add:

Debt records containing information about the debtor(s), the type of debt, the governmental entity to which the debt is owed, and the debt collection tools utilized to collect the debt. The records may contain identifying information, such as name(s) and taxpayer identifying number (i.e., social security number or employer identification number); debtor contact information, such as work and home address, and work and home telephone numbers; and name of employer and employer address. Debts include loans, assessments, fines, fees, penalties, overpayments, advances, extensions of credit from sales of goods or services, and other amounts of money or property owed to the Department or one of its offices or bureaus. The records also may contain information about: (a) The debt, such as the original amount of the debt, the debt account number, the date the debt originated, the amount of the delinquency or default, the date of delinquency or default, basis for the debt, amounts accrued for interest, penalties, and administrative costs, and payments on the account; (b) Actions taken to collect or resolve the debt, such as copies of demand letters or invoices, documents or information required for the referral of accounts to collection agencies or for litigation, and collectors' notes regarding telephone or other communications related to the collection or resolution of the debt; and (c) The Departmental office or bureau that is collecting or owed the debt, and the name, telephone number, and address of the Departmental office or bureau contact.

Authority for maintenance of the system:

Delete: current paragraph

Add:

28 U.S.C. 3101-3105, Debt Collection Act of 1982 (Pub. L. 97-365); 26 U.S.C. 6402(d); and 31 U.S.C. 3711.

Add this section:

Purpose(s):

The purpose of this system is to maintain records about individuals who owe debt(s) to the Department or one of its offices or bureaus. The information contained in the records is maintained for the purpose of taking action to facilitate the collection and resolution of the debt(s) using various collection methods, including, but not limited to, requesting repayment of the debt by telephone or in writing, offset, levy, administrative wage garnishment, reporting to credit bureaus, referral to collection agencies or for litigation, and other collection or resolution methods authorized or required by law. The information also is maintained for the purpose of providing collection information about the debt to the agency collecting the debt, to provide statistical information on debt collection operations, and for the purpose of testing and developing enhancements to the computer systems which contain the records.

Routine uses of records maintained in the system, including categories of users and the purposes of such uses:

These records may be disclosed as follows:

(1) In the event that a system of records maintained by the Department to carry out its functions indicates a violation or potential violation of law or contract, whether civil, criminal or regulatory in nature, and whether arising by general statute or particular program statute or contract, or rule, regulation, or order issued pursuant thereto, or the necessity to protect an interest of the Department, the relevant records in the system of records may be referred to the appropriate agency, whether Federal, state, local or foreign, charged with the responsibility of investigating or prosecuting such violation or charged with enforcing or implementing the statute or contract, or rule, regulation or order issued pursuant thereto, or protecting the interest of the Department.

(2) A record from this system of records may be disclosed to a Federal, state or local agency maintaining civil, criminal or other relevant enforcement information or other pertinent information, such as current licenses, if necessary to obtain information relevant to a Department decision concerning the assignment, hiring or retention of an individual, the issuance of a security clearance, the letting of a contract, or the issuance of a license, grant or other benefit.

(3) A record from this system of records may be disclosed to a Federal, state, local or international agency, in response to its request, in connection with the assignment, hiring or retention of an individual, the issuance of a security clearance, the reporting of an investigation of an individual, the letting of a contract, or the issuance of a license, grant, or other benefit by the requesting agency, to the extent that the information is relevant and necessary to the requesting agency's decision on the matter.

(4) A record from this system of records may be disclosed in the course of presenting evidence to a court, magistrate or administrative tribunal, including disclosures to opposing counsel in the course of settlement negotiations.

(5) A record in this system of records may be disclosed to a Member of Congress submitting a request involving an individual when the individual has requested assistance from the Member with respect to the subject matter of the record.

(6) A record in this system of records may be disclosed to the Office of Management and Budget in connection with the review of private relief legislation as set forth in OMB Circular No. A-19 at any stage of the legislative coordination and clearance process as set forth in that Circular.

(7) A record in this system of records may be disclosed to the Department of Justice in connection with determining whether disclosure thereof is required by the Freedom of Information Act (5 U.S.C. 552).

(8) A record in this system of records may be disclosed to a contractor of the Department having need for the information in the performance of the contract, but not operating a system of records within the meaning of 5 U.S.C. 552a(m).

(9) A record in this system may be transferred to the Office of Personnel Management: for personnel research purposes; as a data source for management information; for the production of summary descriptive statistics and analytical studies in support of the function for which the records are collected and maintained; or for related manpower studies.

(10) A record from this system of records may be disclosed to the Administrator, General Services, or his designee, during an inspection of records conducted by GSA as part of that agency's responsibility to recommend improvements in records management practices and programs under authority of 44 U.S.C. 2904 and 2906. Such disclosure shall be made in accordance with the GSA regulations governing inspection of records for this purpose, and any other relevant (i.e. GSA or Commerce) directive. Such disclosure shall not be used to make determinations about individuals.

(11) Any Federal agency, state or local agency, U.S. territory or commonwealth, or the District of Columbia, or their agents or contractors, including private collection agencies (consumer and commercial):

a. To facilitate the collection of debts through the use of any combination of various debt collection methods required or authorized by law, including, but not limited to;

(i) Request for repayment by telephone or in writing;

(ii) Negotiation of voluntary repayment or compromise agreements;

(iii) Offset of Federal payments, which may include the disclosure of information contained in the records for the purpose of providing the debtor with appropriate pre-offset notice and to otherwise comply with offset prerequisites, to facilitate voluntary repayment in lieu of offset, and to otherwise effectuate the offset process;

(iv) Referral of debts to private collection agencies, to Treasury-designated debt collection centers, or for litigation;

(v) Administrative and court-ordered wage garnishment;

(vi) Debt sales;

(vii) Publication of names and identities of delinquent debtors in the media or other appropriate places; and

(viii) Any other debt collection method authorized by law;

b. To conduct computerized comparisons to locate Federal payments to be made to debtors;

c. To conduct computerized comparisons to locate employers of, or obtain taxpayer identifying numbers or other information about, an individual for debt collection purposes;

d. To collect a debt owed to the Department or one of its offices or bureaus through the offset of payments made by states, territories, commonwealths, or the District of Columbia;

e. To account or report on the status of debts for which such entity has a financial or other legitimate need for the information in the performance of official duties;

f. For the purpose of denying Federal financial assistance in the form of a loan or loan guaranty to an individual who owes delinquent debt to the United States;

g. To develop, enhance and/or test database, matching, communications, or other computerized systems which facilitate debt collection processes; or

h. For any other appropriate debt collection purpose.

(12) The Department of Defense, the U.S. Postal Service, or other Federal agency for the purpose of conducting an authorized computer matching program in compliance with the Privacy Act of 1974, as amended, to identify and locate individuals receiving Federal payments including, but not limited to, salaries, wages, and benefits, which may include the disclosure of information contained in the records for the purpose of requesting voluntary repayment or implementing Federal employee salary offset or other offset procedures;

(13) The Department of Justice for the purpose of litigation to enforce collection of a delinquent debt or to obtain the Department of Justice's concurrence in a decision to compromise, suspend, or terminate collection action on a debt;

(14) Any individual or other entity who receives Federal payments as a joint payee with a debtor for the purpose of providing notice of, and information about, offsets from such Federal payments; and

(15) Any individual or entity:

a. To facilitate the collection of debts through the use of any combination of various debt collection methods required or authorized by law, including, but not limited to:

(i) Administrative and court-ordered wage garnishment;

(ii) Report information to commercial credit bureaus;

(iii) Conduct asset searches;

(iv) Publish names and identities of delinquent debtors in the media or other appropriate places; or

(v) Debt sales;

b. For the purpose of denying financial assistance in the form of a loan or loan guaranty to an individual who owes delinquent debt to the Department or one of its offices or bureaus; or

c. For any other appropriate debt collection purpose.

Add this section:

Disclosure to consumer reporting agencies:

Debt information concerning a government claim against a debtor is also furnished, in accordance with 5 U.S.C. 552a(b)(12) and 31 U.S.C. 3711(e), to consumer reporting agencies, as defined by the Fair Credit Reporting Act, 5 U.S.C. 1681(f), to encourage repayment of an overdue debt.

Policies and practices for storing, retrieving, accessing, retaining, and disposing of records in the system:

Storage:

Delete: current paragraph

Add: Records are maintained in computer processible storage media, such as computer hard drives, magnetic disc, tape; in file folders; and on paper lists and forms.

Retrievability:

Delete: current paragraph.

Add: Records are retrieved by various combinations of name, taxpayer identifying number (i.e., social security number or employer identification number), or debt account number.

Safeguards:

Delete: current paragraph.

Add: All officials access the system of records on a need-to-know basis only, as authorized by the system manager. Procedural and physical safeguards are utilized, such as accountability, receipt records, and specialized communications security. Access to computerized records is limited, through use of passwords, and other internal mechanisms, to those whose official duties require access. Hard-copy records are held in file cabinets, with access limited by visual controls and/or lock system. During normal working hours, files are attended by responsible officials; files are locked up during non-working hours.

Retention and disposal:

Delete: current paragraph.

Add: Hard-copy records and electronic records shall be retained and disposed of in accordance with National Archives and Records Administration regulations (36 CFR Subchapter B—Records Retention); Departmental directives and comprehensive records schedules.

System manager(s) and address:

Delete: current paragraph.

Add:

(1) For Office of the Secretary (OS), which includes Gifts & Bequests Fund, Salaries & Expense Fund, and Working Capital Fund:

a. Chief, Financial Operations Division, NIST, 100 Bureau Drive, Mail Stop 3750, Building 101, Room A738, Gaithersburg, MD 20899

(2) For Bureau of the Census (Census):

a. Chief, Reimbursable Section, Finance Division, U.S. Census Bureau, 4700 Silverhill Road, Federal Building #3, Room 3565, Washington, DC 20233

(3) For Bureau of Industry and Security (BIS) (formerly called the Bureau of Export Administration (BXA)):

a. Chief, Receivables Branch, NOAA, 20020 Century Boulevard, Room 3418, Germantown, MD 20874

(4) For Economic and Statistics Administration/Bureau of Economic Analysis (ESA/BEA):

a. Chief, Financial Operations Division, NIST, 100 Bureau Drive, Mail Stop 3750, Building 101, Room A738, Gaithersburg, MD 20899

(5) For Economic Development Administration (EDA):

a. Director, Accounting Division, EDA, Herbert C. Hoover Building, Room 7215, 14th & Constitution Avenue, NW., Washington, DC 20230

(6) For Emergency Loan Guarantee Program, Oil & Gas/Steel (ELGP):

a. Chief, Financial Operations Division, NIST, 100 Bureau Drive, Mail Stop 3750, Building 101, Room A738, Gaithersburg, MD 20899

(7) For International Trade Administration (ITA):

a. Supervisor Accountant, National Business Center, P&S Mail Stop 2760, 7301 W. Mansfield Avenue, Lakewood, CO 80235-2230

(8) For Minority Business Development Agency (MBDA):

a. Chief, Financial Operations Division, NIST, 100 Bureau Drive, Mail Stop 3750, Building 101, Room A738, Gaithersburg, MD 20899

(9) For National Institute of Standards and Technology (NIST):

a. Supervisor, Accounts Receivable Group, NIST, 100 Bureau Drive, Mail Stop 3751, Gaithersburg, MD 20899-3751

(10) For National Oceanic and Atmospheric Administration (NOAA):

a. Chief, Receivables Branch, NOAA, 20020 Century Boulevard, Room 3418, Germantown, MD 20874

(11) For National Telecommunications & Information Administration (NTIA):

a. Chief, Financial Operations Division, NIST, 100 Bureau Drive, Mail Stop 3750, Building 101, Room A738, Gaithersburg, MD 20899

(12) For National Technical Information Service (NTIS):

a. Supervisory Accountant, NTIS, 5285 Port Royal Road, Room 1021, Springfield, VA 22161

(13) For U.S. Patent and Trademark Office (PTO):

a. Director, Office of Finance, U.S. Patent and Trademark Office, 2011 Crystal Drive, Suite 802, Arlington, VA 22202

Add:

Notification procedure:

Inquiries under the Privacy Act of 1974, as amended, shall be addressed to the System Managers at the addresses listed in the section above. All individuals making inquiries should provide with their request as much descriptive matter as is possible to identify the particular record desired. The system manager will advise as to whether the Department or one of its offices or bureaus maintains the records requested by the individual.

Record access procedures:

Delete: current paragraph.

Add: Individuals requesting information under the Privacy Act of 1974, as amended, concerning procedures for gaining access or contesting records should write to the System Managers listed above. All individuals are urged to examine the rules of the Department as published in 15 CFR part 4 b, concerning requirements of the Department with respect to the Privacy Act of 1974, as amended.

Contesting record procedures:

Delete: current paragraph.

Add: See “Record access procedures” above.

Record source categories:

Delete: current paragraph.

Add: Information in this system is provided by the individual on whom the record is maintained, the Departmental office or bureau to which the debt is owed, Federal employing agencies and other entities that employ the individual, Federal agencies issuing payments, collection agencies, locator and asset search companies, credit bureaus, Federal agencies furnishing identifying information and/or address of debtor information, or from public documents.

Add:

Exemptions claimed for the system:

None.

Dated: June 10, 2003.
Brenda Dolan,
Department of Commerce, Freedom of Information/Privacy Act Officer.

[FR Doc. 03-15207 Filed 6-16-03; 8:45 am]

BILLING CODE 3510-BV-P